ENVIRONMENTAL PROTECTION AGENCY

[EPA-HQ-OPP-2005-0123; FRL-8792-8]

Methyl Bromide; Notice of Receipt of Requests to Amend Pesticide Registrations to Terminate Uses of Certain Products

AGENCY: Environmental Protection Agency (EPA).

ACTION: Notice.

SUMMARY: In accordance with section 6(f)(1) of the Federal Insecticide, Fungicide, and Rodenticide Act (FIFRA), as amended, EPA is issuing a notice of receipt of requests by the registrants to amend their registrations to terminate uses of certain products containing the pesticide methyl bromide. The requests would terminate post harvest methyl bromide use in or on alfalfa hay and cottonseed. The requests would terminate alfalfa hay and cottonseed uses from all methyl bromide products registered for use in the United States. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Comments must be received on or before October 30, 2009.

ADDRESSES: Submit your comments, identified by docket identification (ID) number EPA-HQ-OPP-2005-0123, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation 8:30 a.m. to 4 p.m., Monday through Friday, excluding legal holidays. Special arrangements should be made for deliveries of boxed information. The Docket Facility telephone number is (703) 305-5805.

Instructions: Direct your comments to docket ID number EPA-HQ-OPP-2005-0123. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Susan Bartow, Pesticide Re-evaluation Division (7508P), Office of Pesticide Programs, Environmental Protection Agency, 1200 Pennsylvania Ave., NW., Washington, DC 20460-0001; telephone number: (703) 603-0065; fax number: (703) 308-8090; e-mail address: bartow.susan@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information subject heading, Federal Register date and page number.

ii. Follow directions. The Agency may ask you to respond to specific questions or organize comments by referencing a Code of Federal Regulations (CFR) part or section number.

iii . Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel and/or Amend Registrations to Delete Uses

This notice announces receipt by EPA of requests from registrants Great Lakes Chemical a Chemtura Company, Soil Chemicals Corporation doing business as Cardinal Professional Products, and ICL-IP America, Inc. to amend to terminate uses of 5785-11, Meth-O-Gas 100, 5785-41, Meth-O-Gas Q; 8536-15, Methyl Bromide 100, 8536-29, Methyl Bromide Quarantine Fumigant; 8622-16, Metabrom 100, and 8622-55, Metabrom Q product registrations. In letters dated June 29, 2009, June 30, 2009, and July 21, 2009, Great Lakes Chemical, a Chemtura Company, Soil Chemicals Corporation doing business as Cardinal Professional Products, and ICL-IP America, Inc. requested EPA to amend to terminate uses of pesticide product registrations identified in Table 1 of this notice. Specifically, the registrants request voluntary termination of post-harvest alfalfa hay and post-harvest cottonseed uses of methyl bromide. The registrants also request the following provisions for sale, distribution, and use of existing stocks: All sale or distribution by the registrant of existing stocks labeled for post-harvest alfalfa hay and post-harvest cottonseed uses is prohibited after October 31, 2009, unless that sale or distribution is solely for the purpose of facilitating disposal or export of the product.

Existing stocks labeled for post-harvest alfalfa hay and post-harvest cottonseed uses may be sold and distributed by persons other than the registrant until October 31, 2010.

Existing stocks labeled for post-harvest alfalfa hay and post harvest cottonseed uses may be used until all such stocks are exhausted, provided that such use complies with the EPA-approved label of the product.

Action on the registrants’ requests would terminate alfalfa hay and cottonseed uses from all methyl bromide products registered for use in the United States.

III. What Action is the Agency Taking?

This notice announces receipt by EPA of requests from registrants to amend to terminate uses of methyl bromide product registrations. The affected products and the registrants making the requests are identified in Tables 1 and 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The methyl bromide registrants have requested that EPA waive the 180-day comment period. EPA will provide a 30-day comment period on the proposed requests.

Unless a request is withdrawn by the registrant within 30 days of publication of this notice, or if the Agency determines that there are substantive comments that warrant further review of this request, an order will be issued amending the affected registrations.

Table 1.—Methyl Bromide Product Registrations with Pending Requests for Amendment
Registration Number | Product Name | Company
5785-11 | Meth-O-Gas 100 | Great Lakes Chemical a Chemtura Company
5785-41 | Meth-O-Gas Q | Great Lakes Chemical a Chemtura Company
8536-15 | Methyl Bromide 100 | Soil Chemicals Corporation doing business as Cardinal Professional Products
8536-29 | Methyl Bromide Quarantine Fumigant | Soil Chemicals Corporation doing business as Cardinal Professional Products
8622-16 | Metabrom 100 | ICL-IP America, Inc.
8622-55 | Metabrom Q | ICL-IP America, Inc.

Table 2 of this unit includes the names and addresses of record for the registrants of the products listed in Table 1 of this unit.

Table 2.—Registrants Requesting Amendments
EPA Company Number | Company Name and Address
5785 | Great Lakes Chemical Corporation P.O. Box 2200 West Lafayette, IN 47996-2200
8536 | Soil Chemicals Corporation (doing business as Cardinal Professional Products) P.O. Box 782 Hollister, CA 95024-9487
8622 | ICL-IP America, Inc. 95 MacCorkle Avenue, S.W. South Charleston, WV 25303-1411

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Methyl Bromide

Registrants who choose to withdraw a request for cancellation must submit such withdrawal in writing to the person listed under FOR FURTHER INFORMATION CONTACT, postmarked before October 30, 2009. This written withdrawal of the request for cancellation will apply only to the applicable FIFRA section 6(f)(1) request listed in this notice. If the products(s) have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation order.

In any order issued in response to these requests for amendments to terminate uses, the Agency proposes to include the following provisions for the treatment of any existing stocks of the products identified or referenced in Table 1 in Unit III:

All sale or distribution by the registrant of existing stocks labeled for post-harvest alfalfa hay and post-harvest cottonseed uses is prohibited after October 31, 2009, unless that sale or distribution is solely for the purpose of facilitating disposal or export of the product. Existing stocks labeled for post-harvest alfalfa hay and post-harvest cottonseed uses may be sold and distributed by persons other than the registrant until October 31, 2010. Existing stocks labeled for post-harvest alfalfa hay and post-harvest cottonseed uses may be used until all such stocks are exhausted, provided that such use complies with the EPA-approved label of the product.

If the request for use termination is granted, the Agency intends to publish the cancellation order in the Federal Register.

List of Subjects

Environmental protection, Pesticides and pests.

Dated: September 22, 2009.
Richard P. Keigwin, Jr.
Director, Pesticide Re-evaluation Division, Office of Pesticide Programs.

[FR Doc. E9-23458 Filed 9-29-09; 8:45 a.m.]

BILLING CODE 6560-50-S